DEPARTMENT OF EDUCATION

Applications for New Awards; Rehabilitation Services Administration, Disability Innovation Fund—Automated Personalization Computing Project

AGENCY: Office of Special Education and Rehabilitative Services, Department of Education.

ACTION: Notice.

Overview Information

Rehabilitation Services Administration (RSA), Disability Innovation Fund—Automated Personalization Computing Project

Notice inviting applications for new awards for fiscal year (FY) 2015.

Catalog of Federal Domestic Assistance (CFDA) Number: 84.421A.

DATES:

Applications Available: July 23, 2015.

Date of Pre-Application Webinar: August 5, 2015.

Deadline for Transmittal of Applications: September 8, 2015.

Full Text of Announcement

I. Funding Opportunity Description

Purpose of Program: The purpose of the Disability Innovation Fund, as provided by the Consolidated Appropriations Act, 2014 (Pub. L. 113-76), is to support innovative activities aimed at improving the outcomes of “individuals with disabilities,” as defined in section 7(20)(B) of the Rehabilitation Act of 1973, as amended.

Priority: We are establishing this priority for the FY 2015 grant competition and any subsequent year in which we make awards from the list of unfunded applications from this competition, in accordance with section 437(d)(1) of the General Education Provisions Act (GEPA), 20 U.S.C. 1232(d)(1).

Absolute Priority: For FY 2015 and any subsequent year in which we make awards from the list of unfunded applications from this competition, this priority is an absolute priority. Under 34 CFR 75.105(c)(3) we consider only applications that meet this priority.

This priority is:

Disability Innovation Fund—Automated Personalization Computing Project

Background

In today's world, individuals with disabilities experience many barriers to accessing information and communication technologies (ICT) needed for education, training, and workforce participation, as well as for participation in the activities of daily living. For example, in order to meet the needs of a student with a disability, a school will often provide only a single computer, as customizing its software requires expert intervention and staff time. In this case, students cannot use any other information technology (IT) within the learning environment, nor can they use these accommodations on a home or public library computer. Similarly, software licenses for computers within an educational or employment setting cannot follow individual users from school to college or from school to work, or to other environments.

Therefore, as a student, jobseeker, employee, or other user of ICT, an individual with a disability may be very limited in his or her ability to access and use critical information.

For some individuals with or without a disability, the interaction with complex sites and computers (e.g., email, social networking, and electronic voting) can be a source of anxiety and alienation, which may be compounded if there are also barriers to accessing computers and Web sites. Further, as more everyday services migrate online, from Web-enabled ticket kiosks to government services, college and job applications, and student loan services, individuals who need accommodations to use the Web are often left with few or no alternatives.

The Web itself also has barriers to access. Many Web sites and pages may be too complicated or visually busy for users to find the information they need; they may use complex language rather than language that is accessible to individuals with intellectual disabilities or low literacy skills; and they may not include text-to-speech functionality or video description options for people who are blind or visually impaired.

It is essential to develop mechanisms to reduce barriers to accessing technology in order to ensure that everyone who faces these barriers, regardless of economic resources, can use ICT to access information, communities, and services for education, employment, and daily living.

The Department of Education (Department) believes that developing an IT infrastructure that allows individuals with disabilities easier access to ICT will ultimately provide better educational opportunities, ease transitions between school and the workforce, and improve productivity in the workplace.

The Department is therefore seeking to implement a pilot demonstration of automated personalization computing for individuals with disabilities. The demonstration must help users identify the assistive technology (AT) solutions and settings that work best for them (their “personalization”) without the intervention of an AT specialist. Personalization could include, but is not limited to, font size or color, text-to-speech functionality, site simplification or simple language, translation from one language to another language, and audio volume. After identification of the optimal personalized features, the “personalization”—the accommodations or accessibility features—would be available reliably to the user via the Web. Individuals with disabilities would then be able to access, on a secure basis, this computer information no matter where they are (at school, work, home, or in the community), and no matter the type of computer (e.g., desktop, laptop, tablet, smartphone, kiosk) or software platform (e.g., PC, Mac) they are using, as long as it is an APCP-enabled computer with Web access.

This project will require coordination among several different sectors: Cloud or other technology platform providers, AT researchers and manufacturers, mainstream technology manufacturers, Federal agencies, individuals with disabilities, educators, employers, and disability advocacy organizations. Therefore, the Department will require applicants to establish a partnership or use an existing partnership. The applicant may include entities in the partnership that are not otherwise eligible (e.g., for profit entities)to apply, and we encourage cross-sector partnership with the potential to maximize the benefits both to individuals with disabilities and the participating partners.

The project has enormous potential to benefit all of these sectors, but care must be taken to ensure that the project benefits the intended market of individuals with disabilities. Federal involvement in developing this infrastructure will encourage continued innovation and investment by private sector entities, help ensure that all individuals with disabilities reap the benefits of this technology, and ensure that data and personally identifiable information (PII) are protected.

This priority is:

Disability Innovation Fund—Automated Personalization Computing Project

The purpose of this priority is to enter into a cooperative agreement to implement a pilot project that would improve outcomes for individuals with disabilities by increasing access to information and communication technologies (ICT) through automatic personalization of needed assistive technology (AT). Under the Automated Personalization Computing Project (APCP), an information technology (IT) infrastructure would be created to allow users of ICT to store preferences in the cloud or other technology, which then would allow supported Internet-capable devices they are using to automatically run their preferred AT solutions.

Using these stored preferences, along with information about the computer (e.g., type, operating system) and available AT solutions, the APCP would identify AT to meet the user's preferences and then configure the computer accordingly. This may require automatically configuring AT built into the mainstream technology computer itself or configuring external AT solutions to operate on the computer.

The Department is seeking to implement a pilot demonstration of this concept which demonstrates how the automated personalization could follow a person across multiple sites and multiple devices. The project must also demonstrate the scalability and sustainability of the implemented model(s).

Outcomes

The project is designed to achieve the following outcomes:

(a) An APCP demonstration that is usable, complies with accessibility requirements (i.e., WCAG ¹ 2.0 Level AA), and effectively automates personalization;

¹ See www.w3.org/TR/WCAG20/ for WCAG 2.0 accessibility requirements.

(b) A reliable infrastructure that could be scaled well beyond the demonstration implemented under this project;

(c) Evidence that the personalization is transferrable in such a way that it can follow a person from one device to another and from one site to another (e.g., from college to career);

(d) A set of metrics, along with the strategies and the computer programs needed to collect and analyze data, that can be used to improve, scale up, and sustain the APCP; and

(e) A detailed plan for sustainability of the implemented model(s).

Project Requirements

(a) Target populations. The pilot project must be designed to address the ICT and automated personalization needs of either or both of the following target populations: (1) Youth with disabilities transitioning from secondary to postsecondary education or employment, or (2) individuals with disabilities who are clients of American Job Centers or State vocational rehabilitation (VR) agencies.

(b) Demonstration sites. The personalization system must have access to the preferences of the user and to the computing environment of each specific device to be personalized so that it can determine how best to adapt that device to meet a user's preferences. The demonstration must include sites that show how the APCP could work in a variety of computing environments--from those that freely release information about the computing environment to those that keep such information secure. Sites across multiple organizations and settings must be involved in this project.

(c) Computers to be personalized. Personalization must be accomplished on mainstream hardware and operating systems that are currently in use at the selected sites. Multiple hardware platforms with multiple operating systems must be used in this demonstration.

(d) AT included. The personalization must use a variety of AT solutions, including those from traditional AT manufacturers, as well as free open-source solutions and solutions built into the operating systems of the computers involved.

(e) Privacy and security of users and computers to be personalized. Privacy must be guaranteed for the users of the personalization system (e.g., the system must be compliant with the Health Insurance Portability and Accountability Act (HIPAA) ² and Family Educational Rights and Privacy Act (FERPA) ³), especially their stored preferences. Additionally, the security of the computers to be personalized must be maintained.

² See www.hhs.gov/ocr/privacy/hipaa/administrative/statute/ for more information on HIPAA requirements.

³ See www2.ed.gov/policy/gen/guid/fpco/ferpa/index.html for more information on FERPA requirements.

(f) Appropriate security controls applied. The implementation must ensure that the system: (1) Follows the risk assessment framework from the National Institute of Standards and Technology (NIST) described in NIST SP 800-37 to determine the risk posture; (2) applies the controls in NIST SP 800-53a (revision 4) correlated with the risk level; and (3) assures the application of other security controls, standards, and requirements appropriate for the security of information managed by the system.

(g) Reliability. The demonstration must be designed so that users will be assured of access at any time.

(h) Involvement of stakeholders. The applicant must involve all affected stakeholder groups (e.g., cloud or other technology platform providers, AT researchers and manufacturers, mainstream technology manufacturers, Federal agencies, individuals with disabilities, and disability advocacy organizations) in all aspects of the project including, but not limited to, project development, design, implementation, and development of sustainability plans.

(i) Advisory committee. The grantee must establish an advisory committee that meets at least semi-annually. The committee must include, but is not limited to, individuals with disabilities, local educational agencies or State educational agencies, and institutions of higher education (IHEs), State VR and workforce development agencies, businesses, and AT manufacturers. The committee will work on the project development, methods for engagement with international standards organizations and the Web and ICT community, and performance review.

(j) Federal steering committee. The grantee must work with a Federal steering committee, consisting of federal employees only, (to be constituted by RSA) that provides support, guidance, and oversight of the project to ensure delivery of project outputs and achievement of project outcomes. At a minimum, the committee will:

(1) Provide input to the development of the project, including input on refining the evaluation plan;

(2) Identify and monitor risks;

(3) Monitor timelines and the quality of the project;

(4) Provide technical assistance; and

(5) Leverage resources to support the project moving forward.

Application Requirements

In order to be considered under this priority, an applicant must meet the following requirements:

(a) Address the technical requirements for the deployment of the system in a large-scale demonstration of users and how the users will retrieve their stored preferences. To meet this requirement, the applicant must describe—

(1) The system architecture indicating necessary components and how they interact with the computing environment to be personalized;

(2) The technical requirements in terms of processing power, data storage and retrieval, networking and bandwidth capacity, and methods to procure the necessary services;

(3) The methods by which users will access their stored preferences and personalize the computer being used and the related security measures; and

(4) The methods to ensure data deletion after users permanently withdraw from the system.

(b) Describe how it will incorporate all of the project components.

(c) Describe how it will assure reliability, security, usability, and ethical administration in a large-scale demonstration. To meet this requirement the applicant must describe its plan for—

(1) Privacy and security measures to safeguard user data;

(2) Security measures to safeguard the computers to be personalized;

(3) The development of a board of ethics to determine privacy considerations related to the project for individuals with specialized needs and their caregivers (e.g., access to the location data of cognitively disabled individuals);

(4) A policy regarding the appropriate use of metadata and derived data from the user's activity; and

(5) Metric-based solutions for reliability of the user data, including a description of how the user's data will be stored and copied to ensure a current and up-to-date profile.

(d) Describe how it will build business systems (e.g., work with stakeholders to define requirements). To meet this requirement the applicant must describe how and when user and stakeholder requirements will be considered in the project plan and major milestones identified.

(e) Describe how it will build systems to align existing AT products and mainstream access features. To meet this requirement the applicant must describe—

(1) A project plan that identifies possible current products that can be used in a test bed environment to construct these systems;

(2) A plan that describes how to work with AT manufacturers to develop licensing models consistent with this project;

(3) A process for identification and incorporation of new products or innovative use of existing products; and

(4) A plan for involving all stakeholders in addressing issues that arise when multiple AT personalization solutions exist (e.g., when a user prefers a particular screen reader but multiple screen readers with different features and price points are available).

(f) Describe methods for defining applicable metrics and reliable measurement techniques and tools that can be implemented by multiple stakeholders and independent assessment organizations.

(g) Describe an evaluation plan that addresses the methods for evaluating this project, including the metrics and instruments to be used in the evaluation and data to be collected.

(h) Describe a plan for addressing sustainability of the implemented model(s).

(i) Identify how it will establish a partnership or utilize an existing partnership. Documentation must include, at a minimum: (1) Evidence of an existing Memorandum of Understanding or a Letter of Intent to establish a partnership; (2) a description of each proposed partner's anticipated commitment of financial or in-kind resources (if any); (3) how each proposed partner's current and proposed activities align with those of the proposed project; (4) how each proposed partner will be held accountable under the proposed governance structure; and (5) how the applicant together with its proposed partners has a demonstrable record of working together with key stakeholders such as major ICT providers, agencies that serve people with disabilities, and organizations of people with disabilities.

Waiver of Proposed Rulemaking: Under the Administrative Procedure Act (5 U.S.C. 553) the Department generally offers interested parties the opportunity to comment on proposed priorities. Section 437(d)(1) of GEPA, however, allows the Secretary to exempt from rulemaking requirements, regulations governing the first grant competition under new or substantially revised program authority. This is the first grant competition for this program under the Consolidated Appropriations Act, 2014, and therefore qualifies for this exemption. In order to ensure timely grant awards, the Secretary has decided to forego public comment on the priority under section 437(d)(1) of GEPA. This priority will apply to the FY 2015 grant competition and any subsequent year in which we make awards from the list of unfunded applicants from this competition.

Program Authority: Consolidated Appropriations Act, 2014 (Pub. L. 113-76).

Applicable Regulations: (a) The Education Department General Administrative Regulations in 34 CFR parts 75, 77, 79, 81, 82, 84, 86, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

Note: The regulations in 34 CFR part 79 apply to all applications except federally recognized Indian tribes.

Note: The regulations in 34 CFR part 86 apply only to IHEs.

II. Award Information

Type of Award: Discretionary grant.

Estimated Available Funds: $20,000,000.

Estimated Number of Awards: 1.

Note: The Department is not bound by any estimates in this notice.

Project Period: Up to 60 months. Applicants under this competition are required to provide detailed budget information for each of the five years of this project and for the total grant.

III. Eligibility Information

1. Eligible Applicants: An application must be submitted by an eligible applicant serving as the lead entity on behalf of a proposed partnership that would involve public and private partners participating in project implementation and governance. The applicant must be a State or public or nonprofit agency or organization, including Indian tribes and IHEs. The applicant, together with its proposed partners, must also have a demonstrable record of working together with key stakeholders such as major ICT providers, agencies that serve people with disabilities, and organizations of people with disabilities.

2. Cost Sharing or Matching: This program does not require cost sharing or matching.

IV. Application and Submission Information

1. Address to Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.421A.

To obtain a copy from the program office, contact Douglas Zhu, U.S. Department of Education, Rehabilitation Services Administration, 550 12th Street SW., Room 5051, Potomac Center Plaza (PCP), Washington, DC 20202-2800. Telephone: (202) 245-6037 or by email: douglas.zhu@ed.gov.

Individuals with disabilities can obtain a copy of the application package in an accessible format (e.g., braille, large print, audiotape, or compact disc) by contacting the person or team listed under Accessible Format in section VIII of this notice.

2.a. Content and Form of Application Submission:

Requirements concerning the content of an application, together with the forms you must submit, are in the application package for this program.

Page Limit: The application narrative (Part III of the application) is where you, the applicant, address the selection criteria that reviewers use to evaluate your application. Because of the limited time available to review applications and make a recommendation for funding, we strongly encourage applicants to limit the application narrative to no more than 75 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

In addition to the page-limit guidance on the application narrative section, we recommend that you adhere to the following page limits, using the standards listed above: (1) The abstract should be no more than one page, (2) the resumes of key personnel should be no more than two pages per person, and (3) the bibliography should be no more than three pages. The only optional materials that will be accepted are letters of support. Please note that our reviewers are not required to read optional materials.

Please note that any funded applicant's application abstract will be made available to the public.

b. Submission of Proprietary Information:

Given the types of projects that may be proposed in applications for the Disability Innovation Fund—Automated Personalization Computing Project, an application may include business information that the applicant considers proprietary. The Department's regulations define “business information” in 34 CFR 5.11.

Because we plan to make the abstract of the successful application available to the public, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: July 23, 2015.

Date of Pre-Application Webinar: Interested parties are invited to participate in a pre-application Webinar. The pre-application Webinar with staff from the Department will be held on August 5, 2015. The Webinar will be recorded. For further information about the pre-application Webinar, contact the person listed under FOR FURTHER INFORMATION CONTACT in section VII of this notice. Deadline for Transmittal of Applications: September 8, 2015.

Applications for grants under this competition must be submitted electronically using the Grants.gov Apply site (Grants.gov). For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. However, under 34 CFR 79.8(a), we waive intergovernmental review in order to make an award by the end of FY 2015.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days to complete.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications

Applications for grants under the Automated Personalization Computing Project, CFDA number 84.421A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Automated Personalization Computing Project competition at www.Grants.gov. You must search for the downloadable application package for this competition by the CFDA number. Do not include the CFDA number's alpha suffix in your search (e.g., search for 84.421, not 84.421A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Douglas Zhu, U.S. Department of Education, 550 12th Street SW., Room 5051, PCP, Washington, DC 20202-2800. FAX: (202) 245-7591.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.421A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.421A), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also. If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. You must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The Government Performance and Results Act of 1993 (GPRA) directs Federal departments and agencies to improve the effectiveness of programs by engaging in strategic planning, setting outcome-related goals for programs, and measuring program results against those goals.

The goal of the APCP is to develop an IT infrastructure on which Internet-capable computers automatically run AT solutions customized for individual users with disabilities according to their preferences. These preferences must be established with minimal effort on the part of the user. The result is a personalized interface automatically and transparently running on any APCP-enabled computer after log-in, wherever located.

Pursuant to GPRA, the Department is in the process of developing performance measures for this program to assess the success of the grantee in meeting the goals of this project. In general, these measures will assess the quality, relevance, and usefulness of the pilot implemented by this project, as well as the performance of this project in meeting the project requirements and achieving outcomes established in this notice and specified annually in the cooperative agreement. Those project requirements and outcomes will include, but not be limited to:

(a) Developing an APCP demonstration that is usable (e.g., such that the percentage of individuals with disabilities who have access to the APCP who use the system and the percentage of such individuals who continue to use the system increase over a specific period of time), complies with accessibility requirements (i.e., WCAG 2.0 Level AA), and effectively automates personalization;

(b) Establishing a reliable infrastructure that could be scaled well beyond the pilot implemented under this project;

(c) Collecting evidence that the personalization is transferrable in such a way that it can follow a person from one device to another and from one site to another (e.g., by tracking the percentage of users who utilize the APCP on multiple devices or at multiple sites);

(d) Developing and implementing a set of metrics, along with the strategies and the computer programs needed to collect and analyze data, that can be used to improve, scale up, and sustain the APCP; and

(e) Developing a plan for sustainability of the implemented model(s).

Measures developed by the Federal steering committee (in consultation with the grantee) will also be included in the cooperative agreement to ensure the grantee's progress in deploying concepts that show promise of sustaining the deployment beyond this grant and scaling beyond this pilot project in the future.

The grantee will be required to collect and annually report data related to its performance on these measures in the project's annual and final performance reports to the Department. The Department may require more frequent reporting. The annual performance reports must include both quantitative and qualitative information sufficient to assess the quality, relevance, and usefulness of the implementation of the pilot project and the objectives and outcomes for that year. The data used must be valid and verifiable.

5. Continuation Awards: In making a continuation award under 34 CFR 75.253, the Secretary considers, among other things: Whether a grantee has made substantial progress in achieving the goals and objectives of the project; whether the grantee has expended funds in a manner that is consistent with its approved application and budget; and, if the Secretary has established performance measure requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Douglas Zhu, U.S. Department of Education, Rehabilitation Services Administration, 550 12th Street SW., Room 5051, PCP, 20202-2800. Telephone: 202-245-6037 or by email: Douglas.Zhu@ed.gov.

If you use a TDD or a TYY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 20, 2015.
Michael K. Yudin,
Assistant Secretary for Special Education and Rehabilitative Services.

[FR Doc. 2015-18085 Filed 7-22-15; 8:45 am]

BILLING CODE 4000-01-P